DEPARTMENT OF HEALTH AND HUMAN SERVICES

National Institutes of Health

Clinical Center; Notice of Meeting

Pursuant to section 10(a) of the Federal Advisory Committee Act, as amended (5 U.S.C. Appendix 2), notice is hereby given of a meeting of the NIH Advisory Board for Clinical Research.

The meeting will be open to the public, with attendance limited to space available. Individuals who plan to attend and need special assistance, such as sign language interpretation or other reasonable accommodations, should notify the Contact Person listed below in advance of the meeting.

Name of Committee: NIH Advisory Board for Clinical Research.

Date: March 28, 2005.

Time: 10 a.m. to 2 p.m.

Agenda: To review proposed 2006 Clinical Center budget.

Place: National Institutes of Health, Building 10, 10 Center Drive, CRC Medical Board, 4-2551, Bethesda, MD 20892.

Contact Person: Maureen E. Gormley, Executive Secretary, Warren Grant Magnuson Clinical Center, National Institutes of Health, Building 10, Room 6-1610, Bethesda, MD 20892. 301/496-2897.

Dated: March 4, 2005.
LaVerne Y. Stringfield,
Director, Office of Federal Advisory Committee Policy.

[FR Doc. 05-4867 Filed 3-10-05; 8:45 am]

BILLING CODE 4140-01-M